FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984, as amended (46 U.S.C. chapter 409 and 46 CFR part 515).

Persons knowing of any reason why the following applicants should not receive a license are requested to contact the Office of Transportation Intermediaries, Federal Maritime Commission, Washington, DC 20573.

Non-Vessel Operating Common Carrier Ocean Transportation Intermediary Applicants:

Transports P. Fatton Inc. dba Fatton U.S.A, 145 Hook Creek Blvd., Bldg. AS, Valley Stream, NY 11581. Officers: Jean-Christophe Debay, Vice President (Qualifying Individual), Guillaume Fatton, President.

ACS Logistics, Inc., 5005 W. Royal Lane, Ste. 198, Irving, TX 75063. Officer: Sazon Maxwell, Asst. Secretary (Qualifying Individual).

Accu-Rate Shipping Inc., 880 Apollo Street, Ste. 101, El Segundo, CA 90245. Officers: Peter Porse, President (Qualifying Individual) Kenji, Go, Vice President.

Angel Freight Services, Inc., 565 Kokea Street, #G-2, Honolulu, HI 96817. Officers: Arturo M. Angel, President (Qualifying Individual), Meryline Angel, Vice President.

Allegheny Ocean Transport Incorporated, 5389 CV Jackson Rd., Ste. #1, Dublin, VA 24084. Officers: James R. Loux, President (Qualifying Individual), Patricia W. Mowrey, Secretary.

Fastpak Hawaii, 1626 Akahi Street, Honolulu, HI 96819. Erwin A. Gabrillo, Sole Proprietor.

Hai Wae Tong Woon, Inc., 1507 Carmen Drive, Elk Grove Village, IL 60007. Officer: Young S. Lee, President (Qualifying Individual).

Eastern Express Cargo, 10717 Camino Ruiz, Ste. 228, San Diego, CA 92126. Alex De Guzzman, Sole Proprietor.

Westwind Transportation Services Inc., dba Westwind Container Lines, 1225 W. 190th Street, Ste. 300, Gardena, CA 90248. Officer: Gene Nakamura, Vice President.

Non-Vessel Operating Common Carrier and Ocean Freight Forwarder Transportation Intermediary Applicants:

G&G International, Inc., 1382 NW 78 Street, Miami, FL 33126. Officers: Rita M. Guzman, President (Qualifying Individual), Diana Lopez, Secretary.

Worldwide Exports, Inc., 377 East Puente Street, Unit 1, Covina, CA 91723. Officers: Alex A. Castano, Vice President (Qualifying Individual), Rosario Castano, President.

Muches Global Industries, Inc., 10535 Rockley Road, Ste. 102, Houston, TX 77099. Officers: Asinobi O. Amadi, President (Qualifying Individual), Queen E. Amadi, Secretary.

A Plus International (U.S.A.) Inc., One Industrial Plaza, Bldg. B, Valley Stream, NY 11581. Officer: Alan Chu, President (Qualifying Individual).

RDM Solutions, Inc., 154-09 148th Ave., Ste. 203, Jamaica, NY 11434. Officer: Mario Ruiz, President (Qualifying Individual).

DT Shipping, Inc., 11203 S. La Cienega Blvd., Los Angeles, CA 90045. Officers: Thuc P. Ly, CFO (Qualifying Individual), Duc Pham, President.

Saturn Freight Systems, Inc., 561 Village Trace, Bldg. 13-A, Marietta, GA 30067. Officers: Guy D. Stark, President (Qualifying Individual), Edward T. Falconer, Vice President.

Ocean Freight Forwarder—Ocean Transportation Intermediary Applicant:

Trans Wagon Int'l (U.S.A) Co., Ltd., 20265 Valley Blvd., Ste. C, Walnut, CA 91789. Officer: Su Chin-Tien, President (Qualifying Individual).

Dated: May 2, 2008.
Karen V. Gregory,
Assistant Secretary.

[FR Doc. E8-10149 Filed 5-6-08; 8:45 am]

BILLING CODE 6730-01-P